DEPARTMENT OF COMMERCE

International Trade Administration

[A-823-815]

Amendment to the Agreement Suspending the Antidumping Duty Investigation on Certain Oil Country Tubular Goods From Ukraine

AGENCY: Enforcement and Compliance, International Trade Administration, Department of Commerce.

DATES: Applicable July 10, 2017.

SUMMARY: The Department of Commerce (the Department) and a representative of the Ukrainian signatory producer/exporter of certain oil country tubular goods (OCTG) from Ukraine, Interpipe, have signed an amendment to the Agreement Suspending the Antidumping Duty Investigation on Certain Oil Country Tubular Goods from Ukraine (Agreement). The amendment to the Agreement extends the Agreement for one additional year, specifying that the Agreement shall terminate four years after the effective date of the original agreement, on July 10, 2018.

FOR FURTHER INFORMATION CONTACT: Sally Craig Gannon or David Cordell at (202) 482-0162 or (202) 482-0408, respectively; Bilateral Agreements Unit, Office of Policy, Enforcement and Compliance, International Trade Administration, U.S. Department of Commerce, 1401 Constitution Avenue NW., Washington, DC 20230.

SUPPLEMENTARY INFORMATION:

Background

As signed on July 10, 2014, Section H of the Agreement stated that, “{t}his Agreement shall terminate three years after the effective date of this Agreement, on July 10, 2017.” ¹ On December 9, 2016, the Ukrainian signatory producer/exporter Interpipe ² requested that the Agreement be extended by five years, to July 10, 2022.³ On December 22, 2016, the Department invited interested parties to comment on the extension request.⁴ On January 13, 2017, the Petitioners ⁵ filed a letter in opposition to the request to extend the Agreement.⁶ On May 19, 2017, the Department informed Interpipe that it was denying Interpipe's request to extend the Agreement by five years.⁷ The Department stated that it had reviewed Interpipe's request and the comments received from interested parties and that it intended to follow the current terms of the Agreement by proceeding to issue an antidumping duty order on July 10, 2017.

¹ See Suspension of Antidumping Investigation: Certain Oil Country Tubular Goods from Ukraine, 79 FR 41959 (July 18, 2014).

² Interpipe Europe S.A.; Interpipe Ukraine LLC; PJSC Interpipe NiznedneprovskyTube Rolling Plant (aka Interpipe NTRP); LLC Interpipe Niko Tube; North American Interpipe, Inc. (collectively Interpipe).

³ See Letter from Interpipe, entitled “Antidumping Duty Suspension Agreement on Certain Oil Country Tubular Goods from Ukraine: Request to Extend the Suspension Agreement” (December 9, 2016).

⁴ See Memorandum to all interested parties inviting comments on the extension request (December 22, 2016).

⁵ Maverick Tube Corporation, United States Steel Corporation, Energex Tube, TMK IPSCO, and Welded Tube USA Inc. (collectively, Petitioners).

⁶ See Letter from the Petitioners entitled “Agreement Suspending the Antidumping Duty Investigation on Certain Oil Country Tubular Goods from Ukraine: Comments in Opposition to Interpipe's Request to Extend Suspension Agreement” (January 13, 2017).

⁷ See Letter to Deen Kaplan from Ronald K. Lorentzen, re “Antidumping Duty Suspension Agreement on Certain Oil Country Tubular Goods from Ukraine: Request to Extend the Suspension Agreement” (May 19, 2017).

Subsequently, the Department reconsidered its decision and, on July 10, 2017, met with counsel to the Petitioners to discuss the possible extension of the Agreement.⁸ As a result of its reconsideration, the Department determined to grant Interpipe's request, in part, and extend the Agreement by one year, based on the unique facts and circumstances in Ukraine which have affected Interpipe's operations since the inception of the Agreement and are still ongoing.⁹ The Department and Interpipe, therefore, signed an amendment to the Agreement on July 10, 2017, extending the Agreement by an additional one-year period such that the Agreement will terminate, and the Department will issue an antidumping duty order, on July 10, 2018.

⁸ See Memorandum to the File entitled “Meeting with Counsel to the Petitioners” (July 11, 2017).

⁹ See Interpipe's submission, entitled “Agreement Suspending the Antidumping Duty Investigation on Certain Oil Country Tubular Goods from Ukraine: Rebuttal to Petitioners' Comments in Opposition to Interpipe's Request to Extend the Suspension Agreement” (January 23, 2017) at 2-6.

The terms and conditions of the July 10, 2017 amendment to the Agreement are set forth in the Amendment to the Agreement, which is attached in Annex 1 to this notice.

We are publishing this notice consistent with section 734(f)(1)(A) of the Tariff Act of 1930, as amended, and 19 CFR 351.208(g)(2).

Dated: July 11, 2017.
Gary Taverman,
Deputy Assistant Secretary for Antidumping and Countervailing Duty Operations, performing the non-exclusive functions and duties of the Assistant Secretary for Enforcement and Compliance.

Annex 1: Amendment to the Agreement Suspending the Antidumping Duty Investigation on Certain Oil Country Tubular Goods (OCTG) From Ukraine

Amendment to the Agreement Suspending the Antidumping Duty Investigation on Certain Oil Country Tubular Goods From Ukraine

The United States Department of Commerce (the Department) and the producers/exporters of Certain Oil Country Tubular Goods from Ukraine that are signatories to the Agreement Suspending the Antidumping Duty Investigation on Certain Oil Country Tubular Goods from Ukraine (Agreement), signed on July 10, 2014, hereby amend Section H of the Agreement, as follows:

The first sentence of Section H is amended as follows (changes in italics):

(H) Termination or Withdrawal

This Agreement shall terminate four years after the effective date of this Agreement, on July 10, 2018.

All other provisions of the Agreement, as amended, continue with full force.

Signed on July 10, 2017, in Washington, DC by

Gary Taverman,

Deputy Assistant Secretary, for Antidumping and Countervailing Duty Operations, performing the non-exclusive functions and duties of the Assistant Secretary for Enforcement and Compliance.

Deen Kaplan,

Counsel for Interpipe Europe S.A.; Interpipe Ukraine, LLC; PJSC Interpipe NiznedneprovskyTube Rolling Plant (aka Interpipe NTRP); LLC Interpipe Niko Tube; North American Interpipe, Inc.

[FR Doc. 2017-14953 Filed 7-14-17; 8:45 am]

BILLING CODE 3510-DS-P